DEPARTMENT OF COMMERCE

National Oceanic and Atmospheric Administration

[RTID 0648-XD103]

Caribbean Fishery Management Council; Public Meeting

AGENCY: National Marine Fisheries Service (NMFS), National Oceanic and Atmospheric Administration (NOAA), Commerce.

ACTION: Notice of public hybrid meeting.

SUMMARY: The Caribbean Fishery Management Council's (Council) Puerto Rico District Advisory Panel (PR-DAP) will hold a public hybrid meeting to discuss the items contained in the tentative agenda included in the SUPPLEMENTARY INFORMATION.

DATES: The PR-DAP public hybrid meeting will be held on July 18, 2023, from 9:30 a.m. to 4:30 p.m., Atlantic Standard Time (AST).

ADDRESSES: The meeting will be held at the Courtyard by Marriott Isla Verde Resort, 7012 Boca de Cangrejos Avenue, Carolina, Puerto Rico 00979.

You may join the PR-DAP public hybrid meeting (via Zoom) from a computer, tablet or smartphone by entering the following addresses:

Join Zoom Meeting: DAP-PR https://us02web.zoom.us/j/88004907357?pwd=ZnRPL0g4ekMzWHRJUzA1K1FoRnVOdz09

Meeting ID: 880 0490 7357

Passcode: 849982

One tap mobile

+17879451488,,88004907357#,,,,*849982# Puerto Rico

+17879667727,,88004907357#,,,,*849982# Puerto Rico

Dial by your location:

• +1 787 945 1488 Puerto Rico

• +1 787 966 7727 Puerto Rico

• +1 939 945 0244 Puerto Rico

• +1 669 444 9171 US

Meeting ID: 880 0490 7357

Passcode: 849982

Find your local number: https://us02web.zoom.us/u/kbtRmz6s7w.

FOR FURTHER INFORMATION CONTACT: Miguel Rolón, Executive Director, Caribbean Fishery Management Council, 270 Muñoz Rivera Avenue, Suite 401, San Juan, Puerto Rico 00918-1903; telephone: (787) 398-3717.

SUPPLEMENTARY INFORMATION: The items included in the tentative agenda are:

July 18, 2023

9:30 a.m.-11 a.m.

—How to Improve Data Collection Analysis for Puerto Rico Fisheries—Adyan Rios, SEFSC

11 a.m.-12 p.m.

—The Southeast Region's Equity and Environmental Justice Strategy Implementation Plan for Underserved Communities: and Examination of Barriers and Development of Actionable Solutions—Heather Blough, NOAA Fisheries/SERO

12 p.m.-1 p.m.

—Lunch Break

1 p.m.-1:30 p.m.

—Status of Marine Reserve Areas in Puerto Rico—Liajay Rivera, CFMC

1:30 p.m.-4:30 p.m.

—Other Business

Other than the starting date and time the order of business may be adjusted as necessary to accommodate the completion of agenda items, at the discretion of the Chair. The meeting will begin on July 18, 2023 at 9:30 a.m. AST, and will end on July 18, 2023, at 4:30 p.m. AST.

Special Accommodations

For any additional information on this public hybrid meeting, you may contact Diana Martino, Caribbean Fishery Management Council, 270 Muñoz Rivera Avenue, Suite 401, San Juan, Puerto Rico 00918-1903; telephone: (787) 226-8849.

Authority: 16 U.S.C. 1801 et seq.

Dated: June 23, 2023.
Rey Israel Marquez,
Acting Deputy Director, Office of Sustainable Fisheries, National Marine Fisheries Service.

[FR Doc. 2023-13769 Filed 6-27-23; 8:45 am]

BILLING CODE 3510-22-P